DEPARTMENT OF COMMERCE

National Oceanic and Atmospheric Administration

RIN 0648-XF915

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two and a half day meeting of its Standing, Reef Fish, Coral, and Socioeconomics Scientific and Statistical Committees (SSC).

DATES: The meeting will convene on Tuesday, January 9, 2018, from 9 a.m. to 5 p.m., Wednesday, January 10, 2018, from 8:30 a.m. to 5 p.m. and Wednesday, January 11, 2018, from 8:30 a.m. to 12 p.m. EDT, if needed.

ADDRESSES: The meeting will be held in the Gulf Council's Conference Room. Council address: Gulf of Mexico Fishery Management Council, 2203 N Lois Avenue, Suite 1100, Tampa, FL 33607; telephone: (813) 348-1630.

FOR FURTHER INFORMATION CONTACT: Steven Atran, Senior Fishery Biologist, Gulf of Mexico Fishery Management Council; steven.atran@gulfcouncil.org; telephone: (813) 348-1630.

SUPPLEMENTARY INFORMATION:

Day 1—Tuesday, January 9, 2018;9 a.m.-5 p.m.

I. Introductions and Adoption of Agenda

II. Approval of Minutes

a. March 8, 2012 Coral SSC meeting summary

b. October 31, 2017 Standing and Reef Fish SSC webinar summary

III. Selection of SSC representative at January 29-February 1, 2018 Council meeting in New Orleans, LA

Standing and Coral SSC Session

IV. Southeast Deep-sea Coral Initiative in the Gulf of Mexico

V. Review of the public hearing draft of Coral Amendment 9

VI. Review of Management Strategy Evaluation Developed for the Coral Reef Conservation Program Grant

Standing and Socioeconomic SSC Session

VII. Grouper and Tilefish 5-year IFQ Review

a. Safety at sea

b. IFQ participants, dealers, and crew surveys

Standing and Reef Fish SSC Session

VIII. Review of Draft Status Determination Criteria/Optimum Yield Options Paper

Day 2—Wednesday, January 10, 2018; 8:30 a.m.-5 p.m.

IX. SEDAR Activities

a. SEDAR 62 Gray Triggerfish standard assessment

i. Terms of reference

ii. Project schedule

iii. Assessment workshop appointments

X. Spawning Aggregations in the Gulf of Mexico

a. RESTORE Act Science Program project on spawning aggregations in the Gulf of Mexico

b. Prediction and Verification of Snapper-Grouper Spawning Aggregation Sites on the Offshore Banks of the Northwestern Gulf of Mexico

XI. Evaluating Robustness of Harvest Control Rules to Future Red Tide Events

XII. Further Development of a Stock Assessment Prioritization Spreadsheet

XIII. Analysis Related to Draft Generic Amendment—Carry-over Provision and Framework Modifications

a. Simulation of the Effect of Carrying Over Unused ACL

XIV. Analysis of Red Grouper Indices of Abundance

XV. Discussion of an ABC Control Rule for Data-Limited Stocks

XVI. Tentative 2018 SSC Meeting Dates

XVII. Other Business

— Meeting Adjourns—

You may register for the SSC Meeting: Standing, Reef Fish, Coral, and Socioeconomic on January 9-11, 2018 at: https://attendee.gotowebinar.com/register/1902765732356970499.

The Agenda is subject to change, and the latest version along with other meeting materials will be posted on the Council's file server. To access the file server, the URL is https://public.gulfcouncil.org:5001/webman/index.cgi, or go to the Council's website and click on the FTP link in the lower left of the Council website (http://www.gulfcouncil.org). The username and password are both “gulfguest”. Click on the “Library Folder”, then scroll down to “SSC meeting-2018-01”.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: December 20, 2017.
Tracey L. Thompson,
Acting Deputy Director, Office of Sustainable Fisheries, National Marine Fisheries Service.

[FR Doc. 2017-27719 Filed 12-22-17; 8:45 am]

BILLING CODE 3510-22-P